DEPARTMENT OF TRANSPORTATION

Federal Motor Carrier Safety Administration

49 CFR Part 393

[Docket No. FMCSA-2025-0120]

RIN 2126-AC94

Parts and Accessories Necessary for Safe Operation; Auxiliary Fuel Tanks

AGENCY: Federal Motor Carrier Safety Administration (FMCSA), Department of Transportation (DOT).

ACTION: Notice of proposed rulemaking (NPRM).

SUMMARY: FMCSA proposes to add an exception to the prohibition on gravity and syphon feeds for auxiliary pumps with a fuel tank capacity of less than 5 gallons mounted on the trailer chassis frame or trailer bed, for purposes other than operation of the motor vehicle, that are operational only when the motor vehicle is not in motion. This proposal is in response to a petition for rulemaking from the Truck Trailer Manufacturers Association (TTMA). The proposed change would provide relief from a regulatory requirement without impacting safety.

DATES: Comments must be received on or before July 29, 2025.

ADDRESSES: You may submit comments identified by Docket Number FMCSA-2025-0120 using any of the following methods:

• Federal eRulemaking Portal: Go to https://www.regulations.gov/docket/FMCSA-2025-0120/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Mr. David Sutula, Chief, Vehicle and Roadside Operations Division, FMCSA, 1200 New Jersey Avenue SE, Washington, DC 20590 0001; (202) 366-9209; David.Sutula@dot.gov. If you have questions on viewing or submitting material to the docket, call Dockets Operations at (202) 366-9826.

SUPPLEMENTARY INFORMATION:

FMCSA organizes this NPRM as follows:

I. Public Participation and Request for Comments

A. Submitting Comments

B. Viewing Comments and Documents

C. Privacy

II. Abbreviations

III. Legal Basis

IV. Background

V. Discussion of Proposed Rulemaking

VI. International Impacts

VII. Section-by-Section Analysis

VIII. Regulatory Analyses

A. E.O. 12866 (Regulatory Planning and Review), E.O. 13563 (Improving Regulation and Regulatory Review), and DOT Regulatory Policies and Procedures

B. E.O. 14192 (Unleashing Prosperity Through Deregulation)

C. Advance Notice of Proposed Rulemaking

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

L. Rulemaking Summary

I. Public Participation and Request for Comments

A. Submitting Comments

If you submit a comment, please include the docket number for this NPRM (FMCSA-2025-0120), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0120/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2025-0120/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

II. Abbreviations

ANPRM Advanced notice of proposed rulemaking

CMV Commercial motor vehicle

DOT Department of Transportation

FMCSRs Federal Motor Carrier Safety Regulations

FR Federal Register

NPRM Notice of proposed rulemaking

PIA Privacy Impact Assessment

PTA Privacy Threshold Assessment

TTMA Truck Trailer Manufacturers Association

UMRA The Unfunded Mandates Reform Act of 1995

U.S.C. United States Code

III. Legal Basis

The provisions of 49 CFR 393.65 were adopted over 50 years ago on the basis of the Motor Carrier Act of 1935. As a result of subsequent recodifications of title 49, United States Code (U.S.C.), that authority is now found at 49 U.S.C. 31502(b), which authorizes the Secretary of Transportation (the Secretary) to prescribe requirements for, among other things, the “safety of operation and equipment” of a motor carrier and the “standards of equipment” of a motor private carrier (49 U.S.C. 31502(b)(1) and (2)).

The Motor Carrier Safety Act of 1984 required the Secretary to “prescribe minimum safety standards for commercial motor vehicles. At a minimum, the regulations shall ensure that—(1) commercial motor vehicles are maintained, equipped, loaded, and operated safely; (2) the responsibilities imposed on operators of commercial motor vehicles do not impair their ability to operate the vehicles safely; (3) the physical condition of operators of commercial motor vehicles is adequate to enable them to operate the vehicles safely . . .; (4) the operation of commercial motor vehicles does not have a deleterious effect on the physical condition of the operators; and (5) an operator of a commercial motor vehicle is not coerced by a motor carrier, shipper, receiver, or transportation intermediary to operate a commercial motor vehicle in violation of a regulation promulgated under this section [which is the basis for much of the FMCSRs], or chapter 51 or chapter 313 of this title.”

This NPRM is based on the authority of 49 U.S.C. 31136(a)(1) to ensure that commercial motor vehicles (CMVs) are equipped and operated safely. It does not implicate the driver-centered requirements of 49 U.S.C. 31136(a)(2) through (4). Because this NPRM would remove a restriction that would otherwise apply to certain motor carriers, there is no obvious risk of coercion related to this rulemaking to which a driver might be subjected.

While 49 U.S.C. 31502(b) and 31136(a)(1) authorize FMCSA to promulgate the rules in 49 CFR part 393, they also allow the Agency to remove or modify regulations that are not needed for the safe operation of CMVs. For the reasons explained below, FMCSA believes that allowing an exception to § 393.65(d)—prohibiting fuel from being supplied by gravity or syphon feed directly to the carburetor or injector—would not adversely affect CMV safety under the circumstances specified in this NPRM.

IV. Background

Requirements that CMVs to be equipped with various parts and accessories are established in 49 CFR part 393.Specifically, § 393.65 contains requirements for fuels systems on CMVs and paragraph (d) prohibits supplying fuel by gravity or syphon feed directly to the carburetor or injector.

On December 21, 2018, TTMA submitted a petition for rulemaking (TTMA petition) requesting a revision to § 393.65(d) to allow an exception for auxiliary fuel tanks. FMCSA granted the TTMA petition on March 17, 2023, and the revision requested in that petition is addressed by this rulemaking.

V. Discussion of Proposed Rulemaking

The TTMA petition requested that FMCSA add an exception to § 393.65 for fuel tanks on auxiliary equipment. TTMA mentioned in their petition that carriers were modifying their trailers in some cases to accommodate a gasoline-powered auxiliary pump for use other than powering the CMVs. These pumps are often employed for specific purposes at a remote site. Gasoline-powered auxiliary pumps come with an integrated fuel tank which often feeds fuel to the pump motor either by gravity or by syphon method. To comply with the prohibition on gravity or syphon feeds in § 393.65(d) carriers will often modify the trailer by installing a fuel tank with a fuel pump along with associated top mountings and fuel lines separately to operate the auxiliary pump. TTMA expressed concern regarding the structural integrity of the fuel tank attachments and the prohibitive costs associated with making such modifications for the sole purpose of compliance with § 393.65(d).

TTMA asserted that after-market installation of fuel tanks is detrimental to safety. TTMA also observed that siphon or gravity feeds could create a hazard by supplying a continuous flow of fuel to an engine in a vehicle that had caught fire, which would be mitigated if there was a limit on the size of siphon or gravity feed fuel tanks. For those reasons, TTMA petitioned the Agency to include language to limit the size of the fuel tank and to allow for installation of gasoline-powered auxiliary pumps with either syphon or gravity method. TTMA believes, that limiting the size of the fuel tank providing fuel by gravity or syphon feed to less than 5 gallons would improve safety while limiting any fire hazards.

FMCSA agrees with TTMA's conclusions and believes that the requested exception will provide regulatory relief while addressing safety concerns associated with the existing process of aftermarket installations. Accordingly, FMCSA is proposing to add an exception to the prohibition on gravity and syphon feeds in § 393.65(d) for auxiliary pumps with a fuel tank capacity of less than 5 gallons mounted on the trailer chassis frame or trailer bed for purposes other than operation of the motor vehicle that are operational only when the motor vehicle is not in motion.

VI. International Impacts

Motor carriers and drivers are subject to the laws and regulations of the countries that they operate in, unless an international agreement states otherwise. Drivers and carriers should be aware of the regulatory differences between nations.

VII. Section-by-Section Analysis

This section-by-section analysis describes the proposed changes in numerical order.

Section 393.65 All Fuel Systems

FMCSA proposes to add new paragraphs (d)(1) and (2) which would provide for an exception from the prohibition in paragraph (d).

VIII. Regulatory Analyses

A. Executive Order (E.O.) 12866 (Regulatory Planning and Review), E.O. 13563 (Improving Regulation and Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this NPRM is not a significant regulatory action under section 3(f) of E.O. 12866, as supplemented by E.O. 13563, and does not require an assessment of potential costs and benefits under section 6(a)(3) of that order. Accordingly, OMB has not reviewed it under that E.O.

This proposed rule would add an exception to the prohibition on gravity and syphon feeds for auxiliary pumps with a fuel tank capacity of less than 5 gallons mounted on the trailer chassis frame or trailer bed when the motor vehicle is not in motion. This proposed change would have no impact on safety. The prohibition against gravity or siphon feeds is primarily intended to prevent the continuous fueling of any fires that may occur. As the exception only applies when the vehicle is not in motion and only for fuel tanks with a capacity of 5 gallons or less, mounted on the trailer chassis frame or trailer, the risk of fire is mitigated. The proposed rule would have the benefit of producing cost savings for the owners of eligible auxiliary pumps by eliminating the need for costly and burdensome upgrades to comply with the current requirement.

FMCSA requests comment on the cost of replacing existing auxiliary pumps with those that would be eligible for the exception.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ¹

¹ Executive Office of the President. Executive Order 14192 of January 31, 2025. Unleashing Prosperity Through Deregulation. 90 FR 9065-9067. Feb. 6, 2025.

Implementation guidance for E.O. 14192 issued by OMB (Memorandum M-25-20, March 26, 2025) defines two different types of E.O. 14192 actions: an E.O. 14192 deregulatory action, and an E.O. 14192 regulatory action.²

² Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero, and therefore would be considered an E.O. 14192 deregulatory action upon issuance of a final rule.

C. Advance Notice of Proposed Rulemaking

Under 49 U.S.C. 31136(g), FMCSA is required to publish an advance notice of proposed rulemaking (ANPRM) or proceed with a negotiated rulemaking, if a proposed safety rule “under this part” ³ is likely to lead to the promulgation of a major rule.⁴ As this proposed rule is not likely to result in the promulgation of a major rule, the Agency is not required to issue an ANPRM or to proceed with a negotiated rulemaking.

³ Part B of Subtitle VI of Title 49, United States Code, i.e., 49 U.S.C. chapters 311-317.

⁴ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857 (Mar. 29, 1996).

No regulatory flexibility analysis is required, however, if the head of an Agency or an appropriate designee certifies that the rule will not have a significant economic impact on a substantial number of small entities. This proposed rule would add an exception to the prohibition on gravity and syphon feeds for auxiliary pumps with a fuel tank capacity of less than 5 gallons mounted on the trailer chassis frame or trailer bed when the motor vehicle is not in motion. By extending this regulatory relief, owners of eligible auxiliary pumps with a fuel pump capacity of less than 5 gallons would experience cost savings. Consequently, I certify that the proposed action would not have a significant economic impact on a substantial number of small entities.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this proposed rule would not result in such an expenditure, a written statement is not required.

G. Paperwork Reduction Act

This proposed rule contains no new information collection requirements under the Paperwork Reduction Act of 1995 (44 U.S.C. 3501-3520).

H. E.O. 13132 (Federalism)

A rule has implications for federalism under section 1(a) of E.O. 13132 if it has “substantial direct effects on the States, on the relationship between the national government and the States, or on the distribution of power and responsibilities among the various levels of government.”

FMCSA has determined that this rulemaking would not have substantial direct costs on or for States, nor would it limit the policymaking discretion of States. Nothing in this document preempts any State law or regulation. Therefore, this rulemaking does not have sufficient federalism implications to warrant the preparation of a Federalism Impact Statement.

I. Privacy

The Consolidated Appropriations Act, 2005,⁶ requires the Agency to assess the privacy impact of a regulation that will affect the privacy of individuals. This NPRM would not require the collection of personally identifiable information.

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a Privacy Impact Assessment (PIA) for new or substantially changed technology that collects, maintains, or disseminates information in an identifiable form. No new or substantially changed technology would collect, maintain, or disseminate information as a result of this rule. Accordingly, FMCSA has not conducted a PIA.

⁷ Public Law 107-347, sec. 208, 116 Stat. 2899, 2921 (Dec. 17, 2002).

In addition, the Agency will complete a Privacy Threshold Assessment (PTA) to evaluate the risks and effects the proposed rulemaking might have on collecting, storing, and sharing personally identifiable information. The PTA will be submitted to FMCSA's Privacy Officer for review and preliminary adjudication and to DOT's Privacy Officer for review and final adjudication.

J. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this proposed rule pursuant to the National Environmental Policy Act of 1969 (42 U.S.C. 4321 et seq.). The Agency believes this proposed rule, if finalized, would not have a reasonably foreseeable significant effect on the quality of the human environment. This action would likely fall under a published categorical exclusion and thus be excluded from further analysis and documentation in an environmental assessment or environmental impact statement under FMCSA Order 5610.1 (69 FR 9680), Appendix 2. Specifically, paragraph (6)(bb), which covers regulations pertaining to vehicle operation safety standards, equipment approval, and/or equipment carriage requirements. The public is invited to comment on the impact of the proposed Agency action.

L. Rulemaking Summary

In accordance with 5 U.S.C. 553(b)(4), a summary of this proposed rule may be found at regulations.gov, under the docket number.

List of Subjects in 49 CFR Part 393

Highway safety, Motor carriers, Motor vehicle safety.

Accordingly, FMCSA proposes to amend 49 CFR part 393 to read as follows:

PART 393—PARTS AND ACCESSORIES NECESSARY FOR SAFE OPERATION

1. The authority citation for part 393 continues to read as follows:

Authority: 49 U.S.C. 31136, 31151, 31502; sec. 1041(b), Pub. L. 102-240, 105 Stat. 1914, 1993; secs. 5301 and 5524, Pub. L. 114-94, 129 Stat. 1312, 1543, 1560; and 49 CFR 1.87.

2. Amend § 393.65 by revising paragraph (d) to read as follows:

§ 393.65 All fuel systems.

* * * * *

(d) Gravity or syphon feed prohibited. A fuel system must not supply fuel by gravity or syphon feed directly to the carburetor or injector, except:

(1) When an auxiliary pump with a fuel tank capacity of less than 5 gallons is mounted on the trailer chassis frame or trailer bed for purposes other than operation of the motor vehicle; and

(2) The auxiliary pump shall be operational only when the motor vehicle is not in motion.

* * * * *

Issued under authority delegated in 49 CFR 1.87.
Sue Lawless,
Assistant Administrator.

[FR Doc. 2025-09731 Filed 5-27-25; 4:15 pm]

BILLING CODE 4910-EX-P